DEPARTMENT OF COMMERCE

International Trade Administration

Postpone the Asia EDGE Business Development Mission

AGENCY: International Trade Administration, U.S. Department of Commerce.

ACTION: Notice.

SUMMARY: The United States Department of Commerce, International Trade Administration, is amending the notice published on September 16, 2019, regarding the Asia EDGE (Enhancing Development and Growth through Energy) Business Development Mission to Indonesia and Vietnam, scheduled for March 16-24, 2020, to amend the dates and revise the application process for the event.

SUPPLEMENTARY INFORMATION: Amendments to revise the event dates and application process.

Background

The Department of Commerce has decided to postpone the Asia EDGE Business Development Mission, which was announced September 19, 2019 (84 FR 48590), from March 16-24, 2020 to September 14-22, 2020. The Department has been closely monitoring COVID-19 developments and believes postponing the mission is the best decision for the health, safety and welfare of the participants. Mission stops will include Indonesia, Vietnam, and Thailand (optional). The Department of Commerce will accept additional applications for this mission through June 30, 2020, and plans to select a total of 20 firms and/or trade associations, including previously selected firms and new applicants. Firms and/or trade associations previously selected to participate in this mission will need to confirm their availability, but need not reapply.

The proposed schedule is updated as follows*:

*Note: The final schedule of meetings, events, and site visits will depend on the availability of host government and business officials, specific goals of mission participants, and flight availability and ground transportation options.

Sunday Sept. 13, 2020 | • Travel to BANGKOK—Optional Spin Off.
Monday Sept. 14, 2020 | • Optional Spin Off Program Commences. • BANGKOK (Full Day Sessions).
Tuesday Sept. 15, 2020 | • BANGKOK (Morning Sessions). • Travel to HO CHI MINH CITY.
Wednesday Sept. 16, 2020 | • Official Trade Mission Program Commences. • HO CHI MINH CITY (Full Day Sessions).
Thursday Sept. 17, 2020 | • Travel to HANOI. • HANOI (Evening Reception).
Friday Sept. 18, 2020 | • HANOI (Full Day Sessions).
Saturday/Sunday Sept. 19-20, 2020 | • Travel to JAKARTA.
Monday Sept. 21, 2020 | • JAKARTA (Full Day Sessions).
Tuesday Sept. 22, 2020 | • JAKARTA (Visit PowerGen Asia Show). • Official Trade Mission Program Concludes.

Contact Information

Stephen Anderson, Commercial Officer, U.S. Embassy Bangkok, U.S. Department of Commerce, Phone: 66-2-205-5263, Email: stephen.anderson@trade.gov

Cathy Gibbons, Global Energy Team Lead, U.S. Commercial Service, Westchester (New York), U.S. Department of Commerce, Phone: 1-914-682-6712, Email: cathy.gibbons@trade.gov

Victoria Gunderson, International Trade Specialist, Office of Energy and Environmental Industries, U.S. Department of Commerce, Phone: 1-202-482-7890, Email: victoria.gunderson@trade.gov

Eric Hsu, Senior Commercial Officer, U.S. Embassy Hanoi (Vietnam), U.S. Department of Commerce, Phone: 84-24-3850-5070, Email: eric.hsu@trade.gov

David Nufrio, International Trade Specialist, Global Markets Asia, U.S. Department of Commerce, Phone: 1-202-482-5175, Email: david.nufrio@trade.gov

Paul Taylor, Commercial Officer, U.S. Embassy Jakarta (Indonesia), U.S. Department of Commerce, Phone: 62-815-1080-0475, Email: paul.taylor@trade.gov

Gemal Brangman,
Senior Advisor, Trade Missions, ITA Events Management Task Force.

[FR Doc. 2020-05861 Filed 3-19-20; 8:45 am]

BILLING CODE 3510-DR-P